DEPARTMENT OF HOUSING AND URBAN DEVELOPMENT

[Docket No. FR-5526-N-01]

Public Housing Assessment System (PHAS): Proposed Physical Condition Interim Scoring Notice

AGENCY: Office of the Assistant Secretary for Public and Indian Housing, HUD.

ACTION: Notice.

SUMMARY: This notice provides additional information to public housing agencies (PHAs) and members of the public about HUD's process for issuing scores under the Physical Condition Indicator of the PHAS under the PHAS Physical Condition Scoring Process notice published on February 23, 2011. This notice provides information to the public about the implementation of a point loss cap in the scoring process. This notice also proposes changes to definitions in the Dictionary of Deficiency Definitions that is an appendix to the PHAS notice on the physical condition scoring process. These proposed changes would affect the physical condition inspections process for both multifamily and public housing properties. This notice also provides information about the updated inspection software that will be used by inspector when conducting inspection. The changes made in this notice are discussed in the Supplementary Information section below.

DATES: Comment Due Date: November 14, 2011.

ADDRESSES: Interested persons are invited to submit comments on this notice and the revised Definitions to be included in the Dictionary of Deficiency Definitions, attached to this notice as an appendix, to the Regulations Division, Office of General Counsel, Department of Housing and Urban Development, 451 7th Street, SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street, SW., Room 10276, Washington, DC 20410-0500.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-402-3055 (this is not a toll-free number). Individuals with speech or hearing impairments may access this number via TTY by calling the Federal Relay Service, toll-free, at 800-877-8339. Copies of all comments submitted are available for inspection and downloading at http://www.regulations.gov.

FOR FURTHER INFORMATION CONTACT: Claudia J. Yarus, Department of Housing and Urban Development, Office of Public and Indian Housing, Real Estate Assessment Center (REAC), 550 12th Street, SW., Suite 100, Washington, DC 20410 at 202-475-8830 (this is not a toll-free number). Persons with hearing or speech impairments may access this number through TTY by calling the toll-free Federal Relay Service at 800-877-8339.

SUPPLEMENTARY INFORMATION:

I. Purpose of This Notice

The purpose of this notice is to describe the physical condition scoring process for the PHAS physical condition indicator. This notice is different from, and supersedes, the February 23, 2011 notice in that it: (1) Describes the change to the scoring process through the implementation of a point loss cap; (2) proposes changes to certain definitions in the Dictionary of Deficiency Definitions; and (3) describes the updated inspection software that will be used by inspectors when conducting REAC inspections of HUD insured and assisted properties.

II. Background

1. Initial Changes to the Dictionary of Deficiency Definitions

Since 2001, when the conference report on that fiscal year's appropriations bill (H.R. Conf. Rep. 106-988) directed HUD to “assess the accuracy and effectiveness of the PHAS system and to take whatever remedial steps may be needed,” and to perform a statistically valid test of PHAS, HUD has engaged in an extensive effort to ensure that the dictionary of deficiency definitions were responsive to industry concerns. HUD engaged a contractor, the Louis Berger group (the contractor) to perform the requested study; the contractor produced a final report in June, 2001, identifying 47 definitions in the Dictionary of Deficiency Definitions, published as Appendix 2 to the Public Housing Assessment System Physical Condition Scoring Process notice published on November 26, 2001 (66 FR 59084) and recommended modifications and minor changes to each.

From 2001 to 2002, HUD and the contractor met with representatives from the multifamily industry, the public housing industry, and HUD's own multifamily and public housing staff to conduct informal discussions on proposed changes to various definitions in the Dictionary of Deficiency Definitions. It was emphasized to the participants that HUD was not seeking their opinions as a group or any official recommendations. Informed by these discussions, HUD then drafted the revisions to the definitions it proposed in a 2004 Federal Register Notice for public comment (see 69 FR 12474, March 16, 2004).

The definitions for which changes were proposed were those that had been identified as causing the greatest inconsistency among contract inspectors. These proposed changes would affect the physical condition inspection process for both multifamily and public housing properties.

2. System Development and Changes to PASS and the Dictionary of Deficiency Definitions

From 2004 to the present, HUD conducted an ongoing deliberative process to develop an updated physical inspection system, including an updated electronic system, that would incorporate the proposed changes to the Dictionary of Deficiency Definitions as well as an additional equity principle. To that end, HUD utilized the information obtained from the earlier consultations with industry groups. Accordingly, the system development process began with the incorporation of the revised Dictionary of Definitions, which the industry and other HUD stakeholders supported. The process was furthered by repeated informal industry contacts from 2004 to the present, which demonstrated to HUD that these changes, while proposed in 2004, are still desired by the industry and still address key areas of interest for the major actors. This repeated confirmation has led HUD to conclude that the newly developed system should incorporate the revised Dictionary of Definitions, as well as an additional principle into the scoring methodology and an updated inspection software tool.

3. Point Loss Cap

One of the major changes made in this notice is the addition of a point loss cap. With the point loss cap, the scoring methodology would take into account the disproportionate effect on scoring that a single deficiency can have when there are relatively few buildings or units that are inspected in a project. Until this point, the scoring methodology has not accounted for this disproportionate effect in the physical inspections scores. This is an issue that has been the subject of repeated comments. These comments have been made consistently in the appeals of PASS scores under the original PHAS Rule, in informal communications with industry, and during industry conferences and meetings in which HUD staff are represented and they continue to be made by the industry members. In order to lessen this impact, HUD developed a mechanism to cap the number of points that would be deducted from the project score for any one deficiency.

This mechanism, a point loss cap set at the inspectable area level, was developed in an effort to more precisely account for the impact of a single deficiency on a property score. These long standing comments on this component of the current scoring methodology, along with HUD's internal analysis of the impact of the proposed change in scoring, has led to the decision by HUD to add a point loss cap to the physical inspection system.

4. DCD 4.0 Inspection Software

The DCD 4.0 is an updated inspection software that will replace the aging DCD 2.3.3 software originally developed in 1997. In addition to taking advantage of advances in technology, the core functionality of the inspection software has been modified to improve data collection. It employs a decision tree model that replaces the selection-based model of recording observed deficiencies. The inspection protocol remains unchanged, but the overall system includes the changes made to the Dictionary of Deficiency Definitions and the inclusion of a point loss cap determined at the inspectable area level.

Incorporation of the revised definitions and point loss cap along with the DCD 4.0 Inspection Software has led to an overall physical inspection system broader in scope than what was proposed in the 2004 Federal Register Notice. As a result, HUD is once again publishing proposed revisions to the Dictionary of Definitions for comment along with the new proposed change of a point loss cap. The proposed revisions to the Dictionary of Deficiency Definitions are included as Appendix 1 to this notice.

III. The Revised Physical Inspection Scoring Process

Substantive revisions to the physical scoring process proposed in this notice include:

• A definition is added for “point loss cap” following the definition for “normalized sub-area weight.”

• Under section 3, “equity principles,” a paragraph is added on the point loss cap.

• Under section 5, “health and safety deficiencies,” language is added reflecting both remediation and action to abate the deficiency; language relating to a deadline for transmittal of the deficiency report is removed.

• Under the same section, it is specified that if there are smoke detector deficiencies, the physical inspection score will include an asterisk.

• Under section 7, “scoring using weighted averages,” language is added related to the point loss cap.

• Under section 8, “essential weights and levels,” the point loss cap is added to the bulleted list.

• Under section 9, the title is revised to “normalized area weights” and the description of the calculation is revised.

• Under section 12, the examples of physical condition score calculations are substantially revised.

• Section 13, “computing PHAS physical inspection scores,” is revised.

• The examples of sampling weights for buildings in section 14 are revised.

The PHAS physical inspection generates comprehensive results, including physical inspection scores reported at the project level; area level scores for each of the five physical inspection areas, as applicable; and observations of deficiencies recorded electronically by the inspector at the time of the inspection.

1. Definitions

The following are the definitions of the terms used in the physical condition scoring process:

Criticality means one of five levels that reflect the relative importance of the deficiencies for an inspectable item. Appendix 1 lists all deficiencies with their designated criticality levels, which vary from 1 to 5, with 5 being the most critical. Based on the criticality level, each deficiency has an assigned value that is used in scoring. Those values are as follows:

Criticality | Level | Value
Critical | 5 | 5.00
Very Important | 4 | 3.00
Important | 3 | 2.25
Contributes | 2 | 1.25
Slight Contribution | 1 | 0.50

Based on the importance of the deficiency as reflected by its criticality value, points are deducted from the project score. For example, a clogged drain in the kitchen is more critical than a damaged surface on a countertop. Therefore, more points will be deducted for a clogged drain than for a damaged surface.

Deficiencies refer to specific problems that are recorded for inspectable items, such as a hole in a wall or a damaged refrigerator in the kitchen.

Inspectable area means any of the five major components of the project: site, building exteriors, building systems, common areas, and dwelling units.

Inspectable items refer to walls, kitchens, bathrooms, and other features that are inspected in an inspectable area. The number of inspectable items varies for each inspectable area, from 8 to 17. Weights are assigned to each item to reflect their relative importance and are shown in the Item Weights and Criticality Levels tables. The tables refer to the weight of each item as the nominal item weight, which is also known as the amenity weight.

Normalized area weight represents weights used with area scores to calculate project-level scores. The weights are adjusted to reflect the inspectable items actually present at the time of the inspection. These weights are proportional, as follows:

• For dwelling units, the area score is the weighted average of sub-area scores for each unit, weighted by the total of item weights present for inspection in each unit, which is referred to as the amenity weight.

• For common areas, the area score is the weighted average of sub-area common area scores weighted by the total weights for items available for inspection (or amenity weight) in each residential building common area or common building. Common buildings refer to any inspectable building that contains no dwelling units. All common buildings are inspected.

• For building exteriors or building systems, the area scores are weighted averages of sub-area scores.

• For sites, the area score is calculated as follows: (1) The amenity weights found on a site, (2) minus deductions for deficiencies, and (3) normalized to a 100-point scale.

Normalized sub-area weight means the weight used with sub-area scores to compute an inspectable area score. These weights are proportional:

• For dwelling units, the item weight of amenities available in the unit at the time of inspection is the amenity weight.

• For common areas, the common area amenity weight is divided by a building's probability of being selected for inspection. All residential buildings with common areas may not be selected for inspection; however, all buildings with common areas are used to determine the amenity weight.

• For building exterior and building systems, the building exterior or building system amenity weight is multiplied by the building's size (number of units) and then divided by its probability of being selected for inspection.

• For the site, there is no sub-area score. For each project, there is a single site.

Note that dividing by a building's probability of being selected for inspection is the same as multiplying by the probability weight since the probability weight is 1 divided by the probability of being selected for inspection.

Point loss cap is the maximum number of points that a single deficiency can count against the overall property score. The point loss cap for each inspectable area is:

Inspectable area | Maximum point deduction for a single deficiency
Site | 7.5
Building Exterior | 10.0
Building System | 10.0
Common Areas | 10.0
Dwelling Units | 5.0

Project is used synonymously with the term “property.”

Severity means one of three levels that reflect the extent of damage associated with each deficiency, with values assigned as follows:

Severity level | Value
3 | 1.00
2 | 0.50
1 | 0.25

The Item Weights and Criticality Levels tables show the severity levels that are possible for each deficiency. Based on the severity of each deficiency, the score is reduced. Points deducted are calculated by multiplying the item weight by the values for criticality and severity, as described below. For specific definitions of each severity level, see the Dictionary of Deficiency Definitions.

Score means a number between 0 and 100 that reflects the physical condition of a project, inspectable area, or sub-area. A property score includes both an alphabetical and a numerical component. The number represents an overall score for the basic physical condition of a property, including points deducted for health and safety deficiencies other than those associated with smoke detectors. The letter code specifically indicates whether health and safety deficiencies were detected, as shown in the chart below:

Physical inspection score alphanumeric codes | No health and safety deficiencies | Health and safety deficiencies: Non-life threatening (NLT) | Health and safety deficiencies: Life threatening (LT)/exigent health and safety (EHS) | Health and safety deficiencies: Fire safety: No smoke detector problems | Health and safety deficiencies: Fire safety: Smoke detector problems
a | X |  |  | X |
a* | X |  |  |  | X
b |  | X |  | X |
b* |  | X |  |  | X
c |  |  | X | X |
c* |  |  | X |  | X

To record a health or safety problem, a letter is added to the project score (a, b, or c) and to note that one or more smoke detectors are inoperable or missing an asterisk (*) is added to the project score. The project score for properties with LT deficiencies will have a “c” whether or not there also are NLT deficiencies.

Sub-area means an area that will be inspected for all inspectable areas except the site. For example, the building exterior for building “2” is a sub-area of the building exterior area. Likewise, unit “5” would be a sub-area of the dwelling units area. Each inspectable area for each building in a property is treated as a sub-area.

2. Scoring Protocol

To generate accurate scores, the inspection protocol includes a determination of the appropriate relative weights of the various components of the inspection; that is, which components are the most important, the next most important, and so on. For example, in the building exterior area, a blocked or damaged fire escape is more important than a cracked window, which is more important than a broken light fixture. The Item Weights and Criticality Levels tables provide the nominal weight of observable deficiencies by inspectable item for each area/sub-area. The Dictionary of Deficiency Definitions provides a definition for the severity of each deficiency in each area/sub-area.

3. Equity Principles

In addition to determining the appropriate relative weights, consideration is also given to several issues concerning equity between properties so that scores fairly assess all types of properties:

Proportionality. The scoring methodology includes an important control that does not allow any sub-area scores to be negative. If a sub-area, such as the building exterior for a given building, has so many deficiencies that the sub-area score would be negative, the score is set to zero. This control mechanism ensures that no single building or dwelling unit can affect the overall score more than its proportionate share of the whole.

Configuration of project. The scoring methodology takes into account different numbers of units in buildings. To fairly score projects with different numbers of units in buildings, the area scores are calculated for building exteriors and systems by using weighted averages of the sub-area scores, where the weights are based on the number of units in each building and on the building's probability of being selected for inspection. In addition, the calculation for common areas includes the amenities existing in the residential common areas and common buildings at the time of inspection.

Differences between projects. The scoring methodology also takes into account that projects have different features and amenities. To ensure that the overall score reflects only items that are present to be inspected, weights to calculate area and project scores are adjusted depending on how many items are actually there to be inspected.

Point loss cap. The scoring methodology further takes into account that a single deficiency can have disproportionate effects on scoring when there are relatively few buildings or units that are inspected in a project. To mitigate any disproportionate impact, the number of points deducted from the project score for any one deficiency is capped. Point loss caps are set at the inspectable area level.

4. Deficiency Definitions

During a physical inspection of a project, the inspector looks for deficiencies for each inspectable item within the inspectable areas, such as the walls (the inspectable item) of a dwelling unit (the inspectable area). Based on the observed condition, the Dictionary of Deficiency Definitions defines up to the three levels of severity for each deficiency: Level 1 (minor), Level 2 (major), and Level 3 (severe). The associated values are shown in the definition of “severity” in Section V.1. A specific criticality level, with associated values as shown in that chart, is also assigned to each deficiency. The criticality level reflects the importance of the deficiency relative to all other possible observable deficiencies for the inspectable area.

5. Health and Safety Deficiencies

The UPCS physical inspection emphasizes health and safety (H&S) deficiencies because of their crucial impact on the well-being of residents. A subset of H&S deficiencies is exigent health and safety (EHS) deficiencies. These are life threatening (LT) and require immediate action or remedy. EHS deficiencies can substantially reduce the overall project score. As noted in the definition for the word “score” in the Definitions section, all H&S deficiencies are highlighted by the addition of a letter to the numeric score. The Item Weights and Criticality Levels tables list all H&S deficiencies with an LT designation for those that are EHS deficiencies and an NLT designation for those that are non-life threatening. The LT and NLT designations apply only to severity level 3 deficiencies.

To ensure prompt correction, remedy or action to abate of H&S deficiencies, the inspector gives the project representative a deficiency report identifying every observed EHS deficiency before the inspector leaves the site. The project representative acknowledges receipt of the deficiency report by signature. HUD makes available to all PHAs an inspection report that includes information about all of the H&S deficiencies recorded by the inspector. The report shows:

• The number of H&S deficiencies (EHS and NLT) that the inspector observed;

• All observed smoke detector deficiencies; and

• A projection of the total number of H&S problems that the inspector potentially would see in an inspection of all buildings and all units.

If there are smoke detector deficiencies, the physical conditions score will include an asterisk. However, problems with smoke detectors do not currently affect the overall score. When there is an asterisk indicating that the project has at least one smoke detector deficiency, that part of the score may be identified as “risk;” for example, “93a, risk” for 93a*, and “71c, risk” for 71c*. There are six distinct letter grade combinations based on the H&S deficiencies and smoke detector deficiencies observed: a, a*, b, b*, c, and c*. For example:

• A score of 90c* means that the project contains at least one EHS deficiency to be corrected, including at least one smoke detector deficiency, but is otherwise in excellent condition.

• A score of 40b* means the project is in poor condition, has at least one non-life threatening deficiency, and has at least one missing or inoperable smoke detector.

• A score of 55a means that the project is in poor condition, even though there are no H&S deficiencies.

• A project in excellent physical condition with no H&S deficiencies would have a score of 90a to 100a.

6. Scoring Process Elements

The physical condition scoring process is based on three elements within each project: (1) Five inspectable areas (site, exterior, systems, common areas, and dwelling units); (2) inspectable items in each inspectable area; and (3) observed deficiencies.

7. Scoring Using Weighted Averages

The score for a property is the weighted average of the five inspectable area scores, where area weights are adjusted to account for all of the inspectable items that are actually present to be inspected. In turn, area scores are calculated by using weighted averages of sub-area scores (e.g., building area scores for a single building or unit scores for a single unit) for all sub-areas within an area.

For all areas except the site, normalized sub-area weights are determined using the size of sub-areas, the items available for inspection, and the sub-area's probability of selection for inspection. Sub-area scores are determined by deducting points for deficiencies, including H&S deficiencies, based on the importance (weight) of the item, the criticality of the deficiency, and the severity of the deficiency. The maximum deduction for a single deficiency cannot exceed the point cap for the inspectable area where the deficiency is observed and a sub-area score cannot be less than zero. Also, points will be deducted only for one deficiency of the same kind within a sub-area. For example, if multiple deficiencies for broken windows are recorded, only the most severe deficiency observed (or one of the most severe, if there are multiple deficiencies with the same level of severity) will result in a point deduction.

8. Essential Weights and Levels

The process of scoring a project's physical condition depends on the weights, levels, and associated values of the following quantities:

• Weights for the 5 inspectable areas (site, building exteriors, building systems, common areas, and dwelling units).

• Weights for inspectable items within inspectable areas (8 to 17 per area).

• Criticality levels (critical, very important, important, contributes, and slight contribution) plus their associated values for deficiencies within areas inspected.

• Severity levels (3, 2, and 1) and their associated values for deficiencies.

• Health and safety deductions (exigent/fire safety and non-life threatening for all inspectable areas).

• Point loss cap, defined at the inspectable area level.

9. Normalized Area Weights

Area weights are used to obtain a weighted average of area scores. A project's overall physical condition score is a weighted average of all inspectable area scores. The nominal weights are:

Inspectable area | Weight (percent)
Site | 15
Building Exterior | 15
Building Systems | 20
Common Areas | 15
Dwelling Units | 35

These weights are assigned for all inspections when all inspectable items are present for each area and for each building and unit. All of the inspectable items may not be present in every inspectable area. When items are missing in an area, the area weights are modified to reflect the missing items so that within that area they will add up to 100 percent. Area weights are recalculated when some inspectable items are missing in one or more area(s).

Although rare, it is possible that an inspectable area could have no inspectable items available; for example, there could be no common areas in the inspected residential buildings and no common buildings. In this case, the weight of the “common areas” would be zero percent and its original 15 percent weight would be equitably redistributed to the other inspectable areas. The 15 percent is redistributed by totaling the weights of other inspectable areas (15 + 15 + 20 + 35 = 85) and dividing the weights of each by that amount (0.85, which is 85% expressed as a decimal). The modified weights are 17.6 percent, 17.6 percent and 23.5 percent, zero percent, and 41.2 percent for site, building exterior, building systems, common areas, and units, respectively, and they add up to 100 percent.

10. Area and Sub-Area Scores

For inspectable areas with sub-areas (all areas except sites), the inspectable area score is a weighted average of the sub-area scores within that area. The scoring protocol determines the amenity weight for the site and each sub-area as noted in Section VI.1 under the definition for normalized sub-area weight. For example, a property with no fencing or gates in the inspectable area of the site would have an amenity weight of 90 percent or 0.9 (100 percent minus 10 percent for lack of fencing and gates), and a single dwelling unit with all items available for inspection, except a call-for-aid would have an amenity weight of 0.98 or 98 percent (100 percent minus 2 percent for lack of call-for-aid). A call-for-aid is a system designed to provide elderly residents the opportunity to call for help in the event of an emergency.

The amenity weight excludes all health and safety items. Each deficiency as weighted and normalized are subtracted from the sub-area or site-weighted amenity score. Sub-area and site area scores are further reduced for any observed health and safety deficiencies. These deductions are taken at the site, building, or unit level. At this point, a control is applied to prevent a negative site, building, or unit score. The control ensures that no single building or unit can affect an area score more than its weighted share.

11. Overall Project Score

The overall project score is the weighted average of the five inspectable area scores, with the five areas weighted by their normalized weights. Normalized area weights reflect both the initial weights and the relative weights between areas of inspectable items actually present. For reporting purposes, the number of possible points is the normalized area weight adjusted by multiplying by 100 so that the possible points for the five areas add up to 100. In the Physical Inspection Report for each project that is sent to the PHA, the following items are listed:

• Normalized weights as the “possible points” by area;

• The area scores, taking into account the points deducted for observed deficiencies;

• The deductions for H&S for each inspectable area; and

• The overall project score.

The Physical Inspection Report allows the PHA and the project manager to see the magnitude of the points lost by inspectable area and the impact on the score of the H&S deficiencies.

12. Examples of Physical Condition Score Calculations

The physical inspection scoring is deficiency based. All projects start with 100 points. Each deficiency observed reduces the score by an amount dependent on the importance and severity of the deficiency, the number of buildings and units inspected, the inspectable items actually present to be inspected, and the relative weights between inspectable items and inspectable areas.

The calculation of a physical condition score is illustrated in the examples provided below. The examples go through a number of interim stages in calculating the score, illustrating how sub-area scores are calculated for a single project, how the sub-area scores are rolled up into area scores, how the point cap is applied, and how area scores are combined to calculate the overall project score. One particular deficiency, missing/damaged/expired fire extinguishers, is carried through the example.

As will be seen, the deduction starts as a percent of the sub-area. Then the area score is decreased considerably in the final overall project score since it is averaged across other sub-areas (building systems in the example) and then averaged across the five inspectable areas. Last, as applicable, the points deducted due to the observance of a particular deficiency are reduced by the application of the point loss cap. Although interim results in the examples are rounded to one decimal, only the final results are rounded for actual calculations.

Following this section, another example is given specifically for public housing projects to show how project scores are rolled up into the PHAS physical indicator score for the PHA as a whole.

Example #1. This example illustrates how the score for a sub-area of building systems is calculated based on the following features.

Consider a project for which the five inspectable areas are present and during the inspection of a residential building with 28 units missing/damaged/expired fire extinguishers are observed. This deficiency has a severity level of 3, which has a severity weight of 1.00 (see Item 1 of this section); a criticality level of 5, which has a criticality weight of 5 (see Item 1 of this section); and an item weight of 15.5. The amount of the points deducted is the item weight (15.5), multiplied by the criticality weight (5), multiplied by the severity weight (1), which equals 77.5.

If this sub-area has all inspectable items, the amenity weight for the sub-area adds to 100%. If missing/damaged/expired fire extinguishers is the only deficiency observed, the initial proportionate score for this sub-area (building systems in building one) is the amenity score minus the deficiency points, normalized to a 100-point basis. In this instance the initial proportionate sub-area score is 100 − 77.5 = 22.5 × (100 ÷ 100) = 22.5. Because the point deduction for the missing/damaged/expired fire extinguishers is 77.5, this deficiency accounts for 77.5% of the sub-area score. Additional deficiencies or H&S deficiencies would be calculated in the same manner and further decrease the sub-area score, and if the result is less than zero (a negative number) the score is set to zero.

Element | Associated value
Amenity Score | 100.0
Deficiency points | 77.5
Calculation for the initial proportionate score | 100.00 − 77.5 = 22.5
Normalizing factor | 100 ÷ 100 = 1
Normalized Initial sub-area score | 22.5 × 1 = 22.5

Example #2. This example illustrates how the building systems inspectable area score is calculated from the sub-area score. Consider a property with two buildings with the following characteristics:

• Building One (from example #1 above):

—28 units

—100 percent amenity weight for items that are present to be inspected in building systems

—Building systems sub-area score is 22.5 points

• Building Two:

—2 units

—62 percent amenity weight for items that are present to be inspected in the building's systems

—Building systems sub-area score is 100.0 points

The score for the building systems area is the weighted average of the individual scores for each building's systems. Each building systems score is weighted by the number of units and the percent of the weight for items present to be inspected in the building systems inspectable area.

The building systems area score is determined as follows. First, the unit weighted average for each building is computed by multiplying the number of units in the building by the amenity weight for that building. The unit weighted average for each building then is divided by the total of the building weights for all buildings in the property to determine the proportion of building weight for each building. Multiplying the proportion of building weight by the initial sub-area score for the building produces the building systems area score. The building systems area score for the property is the sum of the building systems area score for each building.

In this example, the buildings systems area score for the property is 25.7.

Building | Number of units | × | Amenity weight | = | Unit weighted average
One | 28 |  | 1.00 |  | 28.0
Two | 2 |  | .62 |  | 1.24
Total | 30 |  |  |  | 29.24

Unit weighted average | ÷ | Sum of building weights | = | Proportion of building weight
28.0 |  | 29.24 |  | .958
1.24 |  | 29.24 |  | .042
29.24 |  |  |  |

Proportion of building weight | × | Initial sub-area score | = | Building systems area score
.958 |  | 22.5 |  | 21.5
.042 |  | 100.0 |  | 4.2
|  |  |  | 25.7

As shown in the calculations above, the proportion of building weight allocated to building one is 95.8% (28.0 ÷ 29.24 = .958). A building systems area score of 25.7 indicates that the point deduction for the missing/damaged/expired fire extinguishers in building one is 74.2 points: The number of points deducted at the sub-area (from example #1) multiplied by the proportion of building weight allocated to building one, or 77.5 × .958 = 74.2.

Example #3. This example illustrates how the overall weighted average for the building systems area amenity weight is calculated. The unit weighted average of amenity weight for each building is computed by dividing the unit weighted average for the building (as calculated in example #2) by the total number of units in the property. Normalizing the unit weighted average of amenity weights for each building by multiplying by 100 results in the overall building systems weighted average amenity weight. In this example, the overall building systems weighted average amenity weight for the property is 97.4.

Building | Unit weighted average | ÷ | Total units in property | = | Unit weighted average of amenity weights | × | Normalized to a 100 point basis | = | Overall building systems weighted average amenity weight
One | 28.0 |  | 30 |  | .933 |  | 100 |  | 93.3
Two | 1.24 |  | 30 |  | .041 |  | 100 |  | 4.1
Total | 29.24 |  |  |  |  |  |  |  | 97.4

Example #4. This example illustrates how the score for a property is calculated. Consider a property with the following characteristics. All of the values are presumed except for the values buildings systems which were calculated in the preceding examples.

• Site

—Score: 90 points

—67.5 percent weighted average amenity weight

—Nominal area weight: 15 percent

• Building Exteriors

—Score: 85 points

—100 percent weighted average amenity weight

—Nominal area weight: 15 percent

• Building Systems (from Examples 2 and 3)

—Score: 25.7 points

—97.4 percent weighted average amenity weight

—Nominal area weight: 20 percent

• Common Areas

—Score: 77 points

—20 percent weighted average amenity weight

—Nominal area weight: 15 percent

• Dwelling Units

—Score: 85 points

—94 weighted average amenity weight

—Nominal area weight: 35 percent

To calculate the property score, the adjusted area weights for all five inspectable areas are determined. The amenity weights for each of the five inspectable areas shown in the table below are all presumed, except for the amenity weight for building systems that was calculated in the three examples above.

The property score is determined as follows. The amenity weighted average is computed by multiplying the nominal area weight for the inspectable area (see Item 1 of this Section) by the amenity weight (presumed for the example). Next, the amenity weighted averages for the five inspectable areas are added to determine the total adjusted weight (80.5 in this example). to determine the maximum possible points for the inspectable area, each amenity weighted average is divided by the total adjusted weight and then multiplied by 100 to normalize the result. The sum of the five maximum inspectable area points is the total number of possible points for the property. In this example, the maximum possible points, 99.9, was rounded to 100.

Inspectable area | Nominal area weight | × | Amenity weight | = | Amenity weighted average | ÷ | Total adjusted weight | × | Normalized to 100 point scale | = | Maximum possible area points
Site | 15 |  | 0.675 |  | 10.1 |  | 80.5 |  | 100 |  | 12.5
Building Exterior | 15 |  | 1.00 |  | 15.0 |  | 80.5 |  | 100 |  | 18.6
Building Systems | 20 |  | 0.974 |  | 19.5 |  | 80.5 |  | 100 |  | 24.2
Common Areas | 15 |  | 0.20 |  | 3.0 |  | 80.5 |  | 100 |  | 3.7
Dwelling Units | 35 |  | 0.94 |  | 32.9 |  | 80.5 |  | 100 |  | 40.9
Total |  |  |  |  | 80.5 |  |  |  |  |  | 100.0

Before the final property score is calculated, the points deducted for each deficiency are checked against the point loss cap in the applicable inspectable area to assure that no single deficiency results in the deduction of too many points. For the missing/damaged/expired fire extinguishers in building one, the points deducted under building systems will be the result of multiplying the number of building systems points deducted for the deficiency (74.2 as determined in example #2) by the proportion of total points allocated to the building systems inspectable area (.242 from the table above). In this example, the points deducted for this deficiency would be 74.2 × .242 = 18.0. Because the point loss cap for building systems is 10 points, this 18.0 point deduction exceeds the cap. Therefore, the total points deducted due to the missing/damaged/expired fire extinguishers deficiency in building one is reduced to 10.

There are four steps to implement the point deduction in the final score. First, the points lost at the area level are set. For this property, the building systems points deducted due to missing/damaged/expired fire extinguishers is set by dividing the point cap (10) by the proportion of total points allocated to building systems (.242), or 10 ÷.242 = 41.3.

Second, the building systems sub-area weight for building one is set. This is determined by dividing the points lost at the area level (41.3) by the proportion of building weight for building one (.958), or 41.3 ÷ .958 = 43.1

Third, the building one building systems sub-area score is recalculated by summing the building systems deficiencies in building one. In example #1, the missing/damaged/expired fire extinguishers is the only deficiency in this sub-area. Therefore, the recalculated sub-area score for building one building systems is the amenity score (100) minus the building systems sub-area deficiency points (43.1), or 100 − 43.1 = 56.9.

The last step in the application of the point loss cap is the determination of the building systems area score for the property.

Building | Number of units | × | Amenity weight | = | Unit weighted average | ÷ | Sum of the building weights | × | Initial proportionate score | = | Building systems area score
One | 28 |  | 1.00 |  | 28.0 |  | 29.24 |  | 56.9 |  | 54.5
Two | 2 |  | 0.62 |  | 1.24 |  | 29.24 |  | 100.0 |  | 4.2
Total | 30 |  |  |  | 29.24 |  |  |  |  |  | 58.7

The recalculated building systems area score is 58.7 points, and will be rounded to 59. This area score is used to calculate the overall property score.

The nominal possible points for each inspectable area is multiplied by the amenity weight, divided by the total adjusted amenity weight, and normalized to a 100-point basis, in order to produce the possible points for the inspectable area. The property score is the sum of all weighted inspectable area scores for that property. The example below reflects how the missing/damaged/expired fire extinguishers deficiency from example #1 in building systems impacts the overall property score. In this example, the property score of 78.9 is rounded to 79.

Inspectable area | Area points | × | Area score | ÷ | Normalized to a 100 point scale | = | Project weighted area scores
Site | 12.5 |  | 90 |  | 100 |  | 11.2
Building Exterior | 18.6 |  | 85 |  | 100 |  | 15.8
Building Systems | 24.2 |  | 59 |  | 100 |  | 14.3
Common Areas | 3.7 |  | 77 |  | 100 |  | 2.8
Dwelling Units | 40.9 |  | 85 |  | 100 |  | 34.8
Total | 100.0 |  |  |  |  |  | 78.9

13. Computing the PHAS Physical Inspection Score

The physical inspection score for the PHAS for a PHA is the weighted average of the PHA's individual project physical inspection scores, where the weights are the number of units in each project divided by the total number of units in all projects for the PHA.

Example: Project 1 has a score of 79 and has 30 units (from the example above)

Project 2 has a score of 88 and has 600 units.

The overall PHAS score is computed as follows:

Score = [79 × 30/(30+600)] + [88 × 600/(30+600)]

= 3.76 + 83.81

= 87.57 that rounds to an overall physical inspection score of 88.

14. Examples of Sampling Weights for Buildings

The determination of which buildings will be inspected is a two-phase process. In Phase 1 of the process, all common buildings and buildings that contain sampled dwelling units that will be inspected are included in the sampled buildings that will be inspected. (Dwelling units are sampled with equal probabilities at random from all buildings.) When all buildings in a project are not selected in the building sample through Phase 1, Phase 2 is used to increase the size of the building sample. In Phase 2, the additional buildings that are to be included in the sample are selected with equal probabilities so that the total residential building sample size is the lesser of either (1) the dwelling unit sample size, or (2) the number of residential buildings.

To illustrate the process for sampling buildings, two examples are provided below:

Example #1. This example illustrates a project with two buildings for which both buildings are sampled with certainty.

Building 1 has 10 dwelling units and building 2 has 20 dwelling units, for a total of 30 dwelling units. The target dwelling unit sample size for a project with 30 dwelling units is 15. Thus, the sampling ratio for this project is the total number of dwelling units divided by the unit sample size, or 30 ÷ 15 = 2. This means that every second dwelling unit will be selected. The number of residential buildings to be inspected is the minimum of 15 (the dwelling unit sample) and 2 (the number of residential buildings). Thus, 2 residential buildings will be inspected. Since both buildings have at least 2 dwelling units, both buildings are certain to be selected for inspection in Phase 1. Since all buildings were selected in Phase 1 of sampling, Phase 2 is not invoked. Both buildings will then have a selection probability of 1.00 and a sampling weight of 1.00.

Example #2. This example illustrates a project with some buildings selected in Phase 1, other buildings selected in Phase 2, and some buildings that are not selected at all.

The project is comprised of 22 residential buildings. Two of the buildings each have 10 dwelling units and the other 20 buildings are single-family dwelling units, for a total of 40 dwelling units (2 × 10) + 20 = 40. The target dwelling unit sample size for a project with 40 dwelling units is 16. The sampling ratio for this project is the total number of units divided by the unit sample size, or 40 ÷16 = 2.5. In accordance with the inspection protocol of inspecting the minimum of the dwelling unit sample (16) and the number of residential buildings (22), 16 of the residential buildings will be inspected for this project.

In Phase 1 of sampling, the two buildings with 10 dwelling units are selected with certainty since each building has more than 2.5 dwelling units. Each of the single-family buildings has a 1 ÷ 2.5 or 0.40 probability of selection in Phase 1.

Assume that both multi-unit buildings and eight of the single-family buildings (10 buildings in all) are selected in Phase 1. This leaves 12 single-family buildings available for selection in Phase 2. Since 16 residential buildings will be inspected, the sample of 10 buildings selected in Phase 1 falls six buildings short of a full sample. Therefore, six buildings will be selected in Phase 2. Since Phase 2 sampling will select 6 of the 12 previously unselected buildings, each building not selected in Phase 1 will have a six in 12 (0.50) probability of selection in Phase 2.

The two multi-unit buildings each have a sampling probability calculated as follows:

Sampling probability = 1.00 + ((1.00−1.00) × 0.50) = 1.00. The sampling weight for these buildings is 1.

The single-family buildings each have a sampling probability calculated as follows:

Sampling probability = 0.40 + ((1.00−0.40) × 0.50) = 0.70. The sampling weight of selected single-family buildings is 1 ÷ 0.70 = 1.43.

15. Accessibility Questions

HUD reviews particular elements during the physical inspection to determine possible indications of noncompliance with the Fair Housing Act (42 U.S.C. 3601-3619) and section 504 of the Rehabilitation Act of 1973 (29 U.S.C. 794). More specifically, during the physical inspection, the inspector will record if: (1) There is a wheelchair-accessible route to and from the main ground floor entrance of the buildings inspected; (2) the main entrance for every building inspected is at least 32 inches wide, measured between the door and the opposite door jamb; (3) there is an accessible route to all exterior common areas; and (4) for multi-story buildings that are inspected, the interior hallways to all inspected units and common areas are at least 36 inches wide. These items are recorded, but do not affect the score.

IV. Environmental Review

This notice provides operating instructions and procedures in connection with activity under the Public Housing Assessment System regulations at 24 DFR part 902 that have previously been subject to the required environmental review. Accordingly, under 24 CFR 50.19(c)(4), this notice is categorically excluded from environmental review under the National Environmental Policy Act of 1969 (42 U.S.C. 4321).

Dated: September 26, 2011.
Sandra B. Henriquez,
Assistant Secretary for Public and Indian Housing.

Appendix I—Proposed Changes to Dictionary of Deficiency Definitions

Inspectable area | Inspectable item | Deficiency | Current 2.3 definition | Proposed definition | Change rationale
1. Building Exterior | Walls | Damaged Chimneys | The chimney, including the part that extends above the roofline, has separated from the wall or has cracks, spalling, missing pieces, or broken sections | The chimney, including the part that extends above the roofline, has separated from the wall or has cracks, spalling, missing pieces, or broken sections (including chimney caps) | This is a technical modification to include deficiencies for chimney caps as a Level 1 deficiency.
2. Building Exterior | Windows |  | Window systems provide light, security, and exclusion of exterior noise, dust, heat, and cold. Frame materials include wood, aluminum, vinyl, etc Note: This does not include windows that have defects noted from inspection from inside the unit | Window systems provide light, security, and exclusion of exterior noise, dust, heat, and cold. Frame materials include wood, aluminum, vinyl, etc. Note removed | This provision eliminates the confusion of inspecting some windows on exterior and other windows on interior. Windows are now inspected on the exterior and interior of inspected units. However, only interior observations are scored.
3. Building Exterior | Windows | Security Bars Prevent Egress | Exiting (egress) is severely limited or impossible, because security bars are damaged or improperly constructed or installed | Exiting (egress) is severely limited or impossible, because security bars are damaged or improperly constructed or installed. Security bars that are designed to open should open. If they do not open, record a deficiency | This is a clarification and definitional change that provides language regarding scoring a deficiency for security bars that open. This change also rewrites the Level 3 definition for clarity.
4. Building Exterior | Windows | Missing/Deteriorated Caulking/Seals/Glazing Compound | The caulking or glazing compound that resists weather is missing or deteriorated | The caulking or glazing compound that resists weather is missing or deteriorated | The definition for this deficiency is unchanged. Now interior observations only will be scored and the Level 2 deficiency will be lowered to a Level 1, since the deficiency only indicates superficial deterioration and not damage to the frame or structure itself.
5. Building Exterior | Windows | Peeling/Needs Paint | Paint covering the window assembly or trim is cracking, flaking, or otherwise failing. -or- The window Note: This does not include windows that are not intended to be painted assembly or trim is not painted or is exposed to the elements | Paint covering the window assembly or trim is cracking, flaking, or otherwise failing. -or- The window Note: This does not include windows that are not intended to be painted assembly or trim is not painted or is exposed to the elements. | The definition is unchanged but now only interior observations will be scored.
6. Building Systems | Exhaust System | Roof Fans Inoperable | The ventilation system to exhaust kitchen or bathroom air does not function | The ventilation system to exhaust air from building areas (such as kitchen, bathroom, etc.) does not function Note: 1. The inspector shall determine if the fan is event activated (example: fire, timer, etc.)—if so, there is no deficiency 2. “Missing” only refers to the case where there was a fan to begin with. If a fan was not included in the design, do not record a deficiency for not having one | This definitional clarification provides language to indicate that there is the possibility that the inspector may encounter exhaust fans in other building areas besides the kitchen or bathroom.
7. Building Systems | HVAC |  | Portion of the building system that provides ability to heat or cool the air within the building. Includes equipment such as boilers, burners, furnaces, fuel supply, hot water and steam distribution, and associated piping, filters, and equipment. Also includes air handling equipment and associated ventilation ducting | Portion of the building system that provides ability to heat or cool the air within the building. Includes equipment such as boilers, burners, furnaces, fuel supply, hot water and steam distribution, centralized air conditioning systems, and associated piping, filters, and equipment. Also includes air handling equipment and associated ventilation ducting | This definitional clarification ensures that there is sufficient language added to clarify that the deficiency would include the functionality of the cooling system.
8. Building Systems | HVAC | Boiler/Pump Leaks | Water or steam is escaping from unit casing or system piping | Coolant, water, or steam is escaping from unit casing and/or pump packing/system piping | This change adds language to clarify that this deficiency also covers the use of non-water coolants in building HVAC systems.
9. Common Areas | Ceiling | Bulging/Buckling | A ceiling is bowed, deflected, sagging, or is no longer aligned horizontally | A ceiling is bowed, deflected, sagging, or is no longer aligned horizontally to the extent that ceiling failure is possible | Phrase added to definition to indicate the imminent possibility of material or building component failure.
10. Common Areas | Ceiling | Holes/Missing Tiles/Panels/Cracks | The ceiling surface has punctures that may or may not penetrate completely. -or- Panels or tiles are missing or damaged. | The ceiling surface has punctures that may or may not penetrate completely. -or- Panels or tiles are missing or damaged. | This is a technical modification that ensures the deficiency would include cracking in ceiling materials. Level 1 and Level 3 definitions were modified to include reference to cracks and the last section of Level 2 was deleted.
11. Common Areas | Ceiling | Mold | You see evidence of water infiltration, mold, or mildew that may have been caused by saturation or surface failure | You see evidence of water infiltration, or other moisture producing conditions causing mold or mildew that may have been caused by saturation or surface failure | This technical modification acknowledges that other possible sources of moisture beyond water infiltration contribute to mold and mildew growth. Further, the Level 2 definition is eliminated and there are now technical modifications to the Levels for this type of deficiency.
12. Common Areas | Floors | Hard Floor Covering Missing Flooring/Tiles | You see that flooring—terrazzo, hardwood, ceramic tile, or other flooring material—is missing | You see that hard flooring—terrazzo, hardwood, ceramic tile, sheet vinyl, vinyl tiles, or other similar flooring material—is missing section(s), or presents a tripping or cutting hazard, associated with but not limited to holes or delamination | This deficiency definition now will include a technical modification to specify additional types of flooring that should be considered and the various types of defects the inspector should observe.
13. Common Areas | Floors | Soft Floor Covering Damaged | You see damage to carpet tiles, wood, sheet vinyl, or other floor covering | You see damaged and missing carpet | This is a definitional change that simplifies the definition of the deficiency to focus on just carpeting.
14. Common Areas | FHEO | Routes Obstructed or Inaccessible to Wheelchair | Verify that routes to all outside common areas are accessible to wheelchairs (i.e., there are curb cuts, ramps, and sufficient (36″) width) | Verify that at least one route to all outside common areas is accessible to wheelchairs (i.e., there are curb cuts, ramps, and sufficient (36″) width) | This is a modification and clarification of the deficiency definition to reflect FHEO and other Federal requirements as they relate to handicapped accessibility.
15. Common Areas | Floors | Rot/Deteriorated Subfloor | The subfloor has decayed or is decaying | The subfloor has decayed or is decaying Note: 1. If there is any doubt, apply weight to detect noticeable deflection 2. This type of defect typically occurs in kitchens and bathrooms | This is a clarification aimed at simplifying the deficiency language for Level 2 and 3 deficiencies for decaying subfloors.
16. Common Areas | HVAC | Inoperable | The heating, cooling, or ventilation system does not function Note: 1. If the HVAC system is not functioning because it is not the right season, do not record this as a deficiency 2. Statement may be validated by resident survey process | The heating, cooling, or ventilation system does not function Note: If the HVAC system does not operate because of seasonal conditions, do not record this as a deficiency | This is a clarification of the deficiency language.
17. Common Areas | HVAC | Noisy, Vibrating, Leaking | The HVAC distribution components, including fans, are the source of abnormal noise, unusual vibrations, or leaks | The HVAC distribution components, including fans, are the source of unusual vibrations, leaks, or abnormal noise. Examples may include, but are not limited to: screeching, squealing, banging, shaking, etc | This definitional change allows for the inclusion of examples of deficiencies to help give the inspector a better understanding of specific types of damage to the property.
18. Common Areas | Dishwasher/Garbage Disposal | Inoperable | A dishwasher or garbage disposal, if provided, does not function as it should | A dishwasher or garbage disposal, if provided, does not function | This is a clarification of the definition.
19. Common Areas | Walls | Damaged | You see punctures in the wall surface that may or may not penetrate completely. Panels or tiles may be missing or damaged Note: This does not include small holes from hanging pictures, etc | You see cracks and/or punctures in the wall surface that may or may not penetrate completely. Panels or tiles may be missing or damaged Note: 1. This does not include small holes from hanging pictures, etc 2. Control joints/construction joints should not be recorded as a deficiency | This change is a technical modification to the definition of a wall deficiency. The change makes it clear that cracks are considered a deficiency and that control/construction joints are not considered a deficiency.
20. Common Areas | Range Hood/Exhaust Fans | Excessive Grease/Inoperable | The apparatus that draws out cooking exhaust does not function as it should | The apparatus that draws out cooking exhaust does not function | This clarification modifies the Level 1 definition to include other conditions that could impede air flow.
21. Common Areas |  | Graffiti | You see crude inscriptions or drawings scratched, painted, or sprayed on a building surface, retaining wall | You see crude inscriptions or drawings scratched, painted, or sprayed on an interior building surface at one location. An interior surface includes but is not limited to walls, doors, ceiling, and floors. A location is defined as one general area in a building such as one hallway in a 10 story building or one floor of a stairwell in a 5 story building Note: There is a difference between art forms and graffiti. If there by design in accordance with proper authorization, do not consider full wall murals and other art forms as graffiti | This definition change adds to the definition in order to specify the number and location of occurrences of graffiti as well as exclude certain types of sanctioned wall art.
22. Units | HVAC | General Rust/Corrosion | You see a component of the system with deterioration from oxidation or corrosion of system parts | You see a component of the system with deterioration from oxidation or corrosion of system parts. Deterioration is defined as rust, and/or formations of metal oxides, flaking, or discoloration, or a pit or crevice | This change adds language that clearly and adequately defines the definition for deterioration.
23. Units | HVAC System | Inoperable | The heating, cooling, or ventilation system does not function | The heating, cooling, or ventilation system does not function | This is simply the addition of a word to the Level 3 deficiency to correct a grammatical error.
24. | Units | HVAC | Misaligned Chimney/Ventilation | The exhaust system on a gas-fired unit is misaligned | The exhaust system on either a gas, oil fired, or coal unit is misaligned. This is a definitional change that includes the oil fired and coal fired chimney units within the scope of this deficiency.
25. Units | Kitchen | Range Hood/Exhaust Fans—Excessive grease/inoperable | The apparatus that draws out cooking exhaust does not function as it should | The apparatus that draws out cooking exhaust does not function | The definition is modified for a Level 1 deficiency to include other conditions that could impede air flow.
26. Units | Call-for-Aid | Inoperable | The system does not function as it should | The system does not function Note: Inspector should verify that the Call-for-Aid only alerts local entities (on-site) prior to testing | This clarification informs the inspector on the sequencing of their inspection of the Call-for-Aid and removes an unnecessary and confusing phrase.
27. Site | Fencing and Gates | Holes/Missing Sections/Damaged/Falling/Leaning | A fence or gate is rusted, deteriorated, or uprooted which may threaten security, health, or safety Note: Gates for swimming pool fences are covered in another section, “Common Areas—Pools and Related Structures” | A non-security/non-safety (example: Privacy/Decorative) fence or gate is rusted, deteriorated, uprooted, missing or contains holes Notes: 1. Gates for swimming pool fences are covered in another section, “Site Fencing and Gates—Security” 2. Fences designed for Security/Safety are addressed under Security Fences: A security/safety (i.e.: Perimeter/Security) fence or gate is rusted, deteriorated, uprooted or missing such that it may threaten security, health or safety A security/safety (i.e.: Perimeter/Security) fence or gate is rusted, deteriorated, uprooted or missing such that it may threaten security, health or safety | This definitional change splits the fence deficiency definition into two distinct types of fences: non-security/non-safety fences and security/safety type fences or gates. This definition incorporates the deficiency definition entitled `Fencing and Gates—Holes'.
28. Site | Fencing and Gates | Holes | There is an opening or penetration in any fence or gate designed to keep intruders out or children in. Look for holes that could allow animals to enter or could threaten the safety of children | This definition no longer stands alone because it was included in the previous definition: Site Fencing and Gates—Holes/Missing Sections/Damaged/Falling/Leaning | This previous stand-alone definition is incorporated into the deficiency definition entitled `Fencing and Gates—Holes/Missing Sections/Damaged/Falling/Leaning'.
29. Site | Grounds | Ponding/Site Drainage | Water or ice has collected in a depression or on ground where ponding was not intended | Water or ice has collected in a depression or on ground where ponding was not intended | This definitional change specifies area parameters in Level 2 and 3 definitions.
30. Site | Parking Lots/Driveways/Roads | Cracks | There are visible faults in the pavement: longitudinal, lateral, alligator, etc | There are visible faults in the pavement: longitudinal, lateral, alligator, etc. The pavement sinks or rises because of the failure of sub base materials | This definition is now incorporated into a new definition entitled “Damaged Paving”.
31. Site | Parking Lots/Driveways/Roads | Ponding | Water or ice has accumulated in a depression on an otherwise flat plane | Water or ice has accumulated in a depression on an otherwise flat plane | This definitional change removes a note considered obsolete and also more clearly states Level 2 and 3 definitions to more clearly specify water depth parameters.
32. Site | Parking Lots/Driveways/Roads | Potholes/Loose Material | A hole caused by road surface failure -or- Loose, freestanding aggregate material caused by deterioration | Definition consolidated into a new definition entitled “Damaged Paving” | This definition is now incorporated into a new definition entitled “Damaged Paving”.
33. Site | Parking Lots/Driveways/Roads | Settlement/Heaving | The pavement sinks or rises because of the failure of sub base materials Note: If you see that water or ice has collected in the depression, record this under Ponding | Definition consolidated into a new definition entitled “Damaged Paving” | This definition is now incorporated into a new definition entitled “Damaged Paving”.
34. Site | Retaining Walls | Damaged/Falling/Leaning | A retaining wall structure is deteriorated, damaged, falling, or leaning | A retaining wall structure is deteriorated, damaged, falling, or leaning | The Level 2 deficiency has been lowered to a Level 1 deficiency since it indicates only superficial deterioration to the retaining wall and not compromised structural integrity.
35. Site | Walkways and Steps | Cracks/Settlement/Heaving | Visible faults in the pavement: longitudinal, lateral, alligator, etc. -or- Pavement that sinks or rises because of the failure of sub base materials | Visible faults in the pavement: longitudinal, lateral, alligator, etc. -or- Pavement that sinks or rises because of the failure of sub base materials | The definition now no longer would include Note 4, since it was vague and did not always apply.
36. Health and Safety | Air Quality | Mold and Mildew | You see evidence of mold or mildew, especially in bathrooms and air outlets | You see evidence of water infiltration or other moisture producing condition that causes mold, or mildew Note: If the area has at least 1 square foot of mold or mildew, record it as a deficiency | This is a definitional change that includes other causes of moisture such as water infiltration, which would ultimately lead to the growth of mold or mildew. It also clarifies the area and extent of damage necessary to record the deficiency.
37. Health and Safety | Air Quality | Sewer Odor Detected | You detect sewer odors that could pose a health risk if inhaled for prolonged periods | You detect sewer odors. | This simplifies the definition to allow for any sewer odor to be considered a deficiency, instead of requiring the inspector to make a subjective judgment on whether the odor could pose a health risk.
38. Health and Safety | Electrical Hazards | Exposed Wires/Open Panels | You see exposed bare wires or openings in electrical panels Note: If the accompanying authority has identified abandoned wiring, capped wires do not pose a risk and should not be recorded as a deficiency | You see exposed bare wires or openings in electrical panels Note: 1. If the accompanying property representative has identified abandoned wiring, capped wires do not pose a risk and should not be recorded as a deficiency. They must be enclosed in a junction box as defined in Note 2 below 2. If the capped wires are not properly enclosed in a junction box, record as a deficiency | This clarification adds additional notes on conditions under which capped wires would be considered a deficiency and which can be accepted.
39. Health and Safety | Emergency/Fire Exits | Missing Exit Signs | Exit signs that clearly identify all emergency exits are missing. -or- There is no illumination in the area of the sign | Exit signs that clearly identify all emergency exits are missing. -or- There is no adjacent or other internal illumination in operation on or near the sign | This clarification defines more explicitly what types of illumination exit signs ought to have (adjacent or internal) instead of the vague phrase `area'.
40. Health and Safety | Flammable Materials | Improperly Stored | Flammable materials are improperly stored, causing the potential risk of fire or explosion | Flammable or combustible materials are improperly stored near a heat or electrical source, causing the potential risk of fire or explosion Note: Flammable or combustible materials may include but are not limited to Gasoline, Paint Thinners, Kerosene, Propane, paper, boxes, etc | This clarification adds a Note to the definition to provide guidance on what may constitute flammable materials.
41. Health and Safety | Hazards | Tripping | You see any physical defect that poses a tripping risk, generally in walkways or other traveled areas Note: This does not include tripping hazards from elevators that do not level properly. For this deficiency, see Elevator—Tripping, under Health and Safety | You see any physical defect that poses a tripping risk, generally in walkways or other traveled areas. Typically, the defect must present at least a three-quarter inch deviation Note: This does not include tripping hazards from elevators that do not level properly. For this deficiency, see Elevator—Tripping, under Health and Safety | This clarification adds language to provide a clear understanding of how large the deviation within a walkway must be to be considered a tripping hazard.

[FR Doc. 2011-26516 Filed 10-12-11; 8:45 am]

BILLING CODE 4210-67-P